DEPARTMENT OF DEFENSE

Office of the Secretary

Africa Partnership Forum (APF) Day; Notice of Meeting

AGENCY: United States Africa Command (USAFRICOM), DoD.

ACTION: Notice of meeting.

SUMMARY: The Headquarters, United States Africa Command (USAFRTCOM), plans to host an Africa Partnership Forum (APF) Day, June 8-12, 2015. For planning purposes, AFRICOM is gathering information on potential number or “head count” of business or commercial entities that may be interested in participating in the Africa Partnership Forum Day.

DATES: June 8-12, 2015.

ADDRESSES: Stage Palladium Theater, Plieninger Str. 102 70567 Stuttgart, Germany.

FOR FURTHER INFORMATION CONTACT: Interested parties may send their intent to participate to the following email addresses: (1) AFRICOM Stuttgart ACJ95 Mailbox, africom.stuttgart.acj95.mbx.ppp-branch@mail.mil; (2) http://www.ncsi.com/africom/2015/index.php. Please include your company name, point of contact information, the number of potential attendees, and indicate whether U.S. or non-U.S. business entity. State in the subject line: “USAFRICOM Africa Partnership Forum (APF): June 8-12, 2015.”

Please respond to this notice no later than close-of-business on April 10, 2015. The three-day, USAFRICOM APF 8-12 will be held in Stuttgart, Germany. Specific detail s of the event, including a detailed schedule will be published at a later date.

SUPPLEMENTARY INFORMATION:

Monday, June 8, from 2 p.m. to 5 p.m., will focus on arrivals, registration, networking, and a `No-Host' social.

Tuesday, June 9, from 8 a.m. to 5 p.m. and Wednesday, June 10, from 8 a.m. to 4 p.m., will consist of focused topic plenary presentations and facilitate discussions to obtain greater mutual situational understanding; develop new concepts, approaches, insights, and innovative solutions; and to capture opportunities for shared cooperative engagements.

Thursday, June 11, from 8 a.m. to 2 p.m., will focus on vendors' expositions showcasing/demonstrating available products and capabilities and networking to foster greater relationships with commercial industry, NGOs, academia, corporate social foundations, international/private and other organizational entities.

Friday, June 12 will focus on departure of attendees and compiling of comments and contributions of participants.

Dated: March 30, 2015.
Aaron Siegel,
Alternate OSD Federal Register Liaison Officer, Department of Defense.

[FR Doc. 2015-07575 Filed 4-1-15; 8:45 am]

BILLING CODE CODE 5001-06-P